DEPARTMENT OF DEFENSE

Department of the Navy

Notice of Availability of the Final Supplemental Environmental Impact Statement for the Disposal and Reuse of Hunters Point Naval Shipyard, San Francisco, CA

AGENCY: Department of the Navy, DoD.

ACTION: Notice.

SUMMARY: Pursuant to Section 102(2)(C) of the National Environmental Policy Act (NEPA) of 1969, as implemented by the Council on Environmental Quality (CEQ) regulations (40 CFR Parts 1500-1508), the Department of the Navy (DoN) announces that it has prepared and filed the Final Supplemental Environmental Impact Statement (SEIS) evaluating the potential environmental consequences associated with the disposal and reuse of Hunters Point Naval Shipyard (HPS), San Francisco, California. The DoN is required to close HPS per Public Law 101-510, the Defense Base Closure and Realignment Act of 1990, as amended. This Notice of Availability (NOA) initiates a 30-calender day wait period and public review period for the Final SEIS, beginning the date that this NOA is published in the Federal Register. During this time no federal decision on the proposed action shall be made or recorded. Following the 30-day wait/review period, as required by CEQ Regulations for Implementing NEPA, Sec. 1506.10(b)2, the DoN may make a decision on the proposed action and a Record of Decision (ROD) could be issued.

FOR FURTHER INFORMATION CONTACT: Director, BRAC PMO West, Attn: Mr. Ronald Bochenek, 1455 Frazee Road, Suite 900, San Diego, CA 92108-4310, telephone 619-532-0906, fax 619-532-9858, email: ronald.bochenek.ctr@navy.mil.

SUPPLEMENTARY INFORMATION: The DoN, as lead agency, has prepared and filed the Final SEIS for the Disposal and Reuse of HPS, San Francisco, California in accordance with the requirements of the NEPA of 1969 (42 U.S.C. 4321-4345) and its implementing regulations (40 CFR parts 1500-1508). A Notice of Intent for the SEIS was published in the Federal Register on September 5, 2008 (Federal Register/Vol. 73, No. 173 pgs 51797 and 51798/Friday, September 5, 2008/Notices). The purpose of the proposed action and the preferred alternative is the disposal of HPS from federal ownership (861 dry and submerged acres) and its subsequent reuse in a manner consistent with the amended HPS Redevelopment Plan as adopted by the San Francisco Redevelopment Agency (SFRA) on August 3, 2010. HPS Phase 1, comprising approximately 75 acres, was disposed of by the DoN in 2004 and is not part of the proposed project evaluated in the Final SEIS. The DoN is required to close HPS in accordance with Public Law 101-510, the Defense Base Closure and Realignment Act of 1990, as amended. In accordance with NEPA, before disposing of any real property, the DoN must analyze the environmental effects of the disposal of the HPS property.

The environmental consequences resulting from the disposal and reuse of HPS were previously evaluated by the DoN in the Final Environmental Impact Statement (FEIS) for the Disposal and Reuse of HPS, San Francisco, CA, March 2000. The DoN issued a ROD on November 29, 2000 indicating that disposal of HPS would be accomplished in a manner as set forth in the previous 1997 HPS Redevelopment Plan. The Final SEIS supplements the previous 2000 FEIS due to changes that have occurred to the proposed reuse plan since the DoN prepared the 2000 FEIS and 2000 ROD.

The Final SEIS has identified and considered six reuse alternatives for HPS and a no action alternative. DoN disposal is assumed as part of each reuse alternative. The no action alternative assumes retention of the HPS property by the Government in a “caretaker status” and no reuse or redevelopment.

Alternative 1 (“Stadium Plan Alternative”) would redevelop HPS with a wide range of uses including a mixed-use community with 2,650 residential units, retail (125,000 square feet (sq ft)), research and development (R&D) (2.5 million sq ft), community services (50,000 sq ft), and parks and recreational open space (232 acres). A major component would include a new 69,000-seat football stadium. This alternative would also include a 300-slip marina, improvements to stabilize the shoreline, and a new bridge over Yosemite Slough. New infrastructure would serve the development as necessary.

Alternative 1A (the “Stadium Plan/No Bridge Alternative”) includes the disposal of HPS by the DoN and its reuse with the same level, land use types, and density of development as Alternative 1, except that the Yosemite Slough bridge would not be constructed.

Alternative 2 (the “Non-Stadium Plan/Additional R&D Alternative”) includes many of the same components as Alternative 1 including 2,650 residential units, retail (125,000 sq ft), community services (50,000 sq ft), and parks and recreational open space (222 acres), a 300-slip marina, improvements to stabilize the shoreline, and a new bridge over Yosemite Slough. Under this alternative, a new football stadium would not be constructed. Instead, an additional 2.5 million sq ft, for a total of 5 million sq ft, of R&D space would be developed.

Alternative 2A (the “Non-Stadium Plan/Housing and R&D Alternative”) includes a mix of uses including 4,275 residential units, retail (125,000 sq ft), R&D (3 million sq ft), community services (50,000 sq ft), and parks and recreational open space (222 acres). This alternative would also include a 300-slip marina, improvements to stabilize the shoreline, and a new bridge over Yosemite Slough. No new football stadium would be constructed.

Alternative 3 (the “Non-Stadium Plan/Additional Housing Alternative”) does not include a new stadium, but is comprised of a mix of land uses including 4,000 residential units, retail (125,000 sq ft), R&D (2.5 million sq ft), community services (50,000 sq ft), and parks and recreational open space (245 acres). The alternative also includes a 300-slip marina, improvements to stabilize the shoreline, and a new bridge over Yosemite Slough.

Alternative 4 (“the Non-Stadium Plan/Reduced Development Alternative”) includes a reduced density of development. Development proposed under this alternative includes 1,855 residential units, retail (87,500 sq ft), R&D (1.75 million sq ft), community services (50,000 sq ft), and parks and recreational open space (245 acres). This alternative does not include a new stadium, a bridge over Yosemite Slough, a marina, nor shoreline stabilization.

The “No Action Alternative” is required by NEPA and evaluates the impacts at HPS in the event that the property is not disposed. Under this alternative the property would be retained by the DoN in caretaker status. Existing leases would continue until they expire or are terminated, and no new leases would be executed. No reuse or redevelopment would occur under this alternative.

For each alternative, the Final SEIS addresses the potential direct, indirect, short-term, and long-term impacts on the human and natural environments, including the following resource areas: Transportation, traffic, and circulation; air quality and greenhouse gases; noise; land use and recreation; visual resources and aesthetics; socioeconomics; hazards and hazardous substances; geology and soils; water resources; utilities; public services; cultural resources; biological resources; and environmental justice. The analysis also includes an analysis of cumulative impacts from other reasonably foreseeable federal, state, or local activities at and around HPS.

In preparation of the SEIS, the DoN completed a public scoping period from September 5 to October 17, 2008, and held a public scoping meeting on September 23, 2008, to identify community concerns and local issues that should be addressed in the SEIS. Federal, state, and local agencies and interested parties provided oral and written comments to the DoN and identified specific issues or topics of environmental concern that should be addressed in the SEIS. In addition, the DoN facilitated community outreach activities to solicit additional comments and concerns and identified issues from interested community groups in 2009. The DoN considered the scoping and outreach comments in determining the scope of the SEIS.

Following the public scoping period, the DoN released a Draft SEIS for public review and comment on February 23, 2011. The DoN published a NOA in the Federal Register (Federal Register/Vol. 76, No. 36 pgs 10012-10014/Wednesday, February 23, 2011/Notices) to announce the availability of the Draft SEIS and public comment period on February 23, 2011. In addition, the Draft SEIS NOA was also published in the San Francisco Chronicle and Oakland Tribune newspapers; mailed to agencies and interested members of the public; and posted to the DoN BRAC PMO Web site (http://www.bracpmo.navy.mil).

Copies of the Draft SEIS were circulated for review and comment to government agencies, local organizations, Native American tribes, and interested members of the public. The Draft SEIS was also made available at seven public locations, including six public libraries and the City Planning Department. Electronic copies were also posted to the DoN BRAC PMO Web site for download.

The Draft SEIS was available for a 45-day public review period that began on February 23, 2011 and ended on May 6, 2011. A public hearing was conducted during the review period at the Southeast Community Facility, Alex L. Pitcher Community Room, 1800 Oakdale Avenue, San Francisco, CA 94124 on March 15, 2011, 5:30 to 8:30 p.m. The DoN considered all public comments received on the Draft SEIS and the Final SEIS has been revised, as appropriate, in response to all public comments. All Draft SEIS comments and the DoN responses are included in the Final SEIS.

The Final SEIS has been distributed to various Federal, State, local agencies, and Native American tribes, as well as other interested individuals and organizations. In addition, copies of the Final SEIS have been distributed and are available at the following libraries and publicly accessible facilities for public review:

1. San Francisco Main Library, 100 Larkin Street, San Francisco, CA 94102.

2. San Francisco State University Library, 1360 Holloway Avenue, San Francisco, CA 94132.

3. Hastings Law Library, UC Hastings College of the Law, 200 McAllister Street, 4th Floor, San Francisco, CA 94102.

4. Jonsson Library of Government Documents, Cecil H. Green Library, Bing Wing, Stanford, CA 94305-6004.

5. Institute of Governmental Studies Library, UC Berkeley, 109 Moses Hall, #2370, Berkeley, CA 94720.

6. City Planning Department (By Appointment), 1650 Mission Street, Fourth Floor, San Francisco, CA 94103.

An electronic copy of the Final SEIS is also available for public viewing at http://www.bracpmo.navy.mil.

This NOA initiates a 30-calender day wait period and public review period for the Final SEIS, beginning the date that this NOA is published in the Federal Register. Federal, State, and local agencies, as well as interested members of the public, are invited and encouraged to review the Final SEIS during this 30-calendar day period. During this time no federal decision on the proposed action shall be made or recorded. Following the 30-day wait/review period, per CEQ Regulations for Implementing NEPA, Sec. 1506.10(b)2, the DoN may make a decision on the proposed action and a ROD could be issued, completing the NEPA process. Following the DoN decision on the federal action and signature of the ROD, the DoN will publish a NOA for the ROD in the Federal Register and the San Francisco Chronicle and Oakland Tribune newspapers; NOAs will be mailed to government agencies, local organizations, Native American tribes, and interested members of the public; and posted to the Navy BRAC PMO Web site.

For further information contact: Director, BRAC PMO West, Attn: Mr. Ronald Bochenek, 1455 Frazee Road, Suite 900, San Diego, CA 92108-4310, telephone 619-532-0906, fax 619-532-9858, email: ronald.bochenek.ctr@navy.mil.

Dated: April 13, 2012.
J.M. Beal,
Lieutenant Commander, Office of the Judge Advocate General, U.S. Navy, Federal Register Liaison Officer.

[FR Doc. 2012-9575 Filed 4-19-12; 8:45 am]

BILLING CODE 3810-FF-P